DEPARTMENT OF THE TREASURY

Submission for OMB Review; Comment Request

June 21, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 30, 2001 to be assured of consideration.

U.S. Customs Service (CUS)

OMB Number: 1515-0225.

Form Number: None.

Type of Review: Reinstatement.

Title: African Growth and Opportunity Act Certificate of Origin.

Description: The collection of information is required to implement the duty preference provisions of The African Growth and Opportunity Act (AGOA) to provide for extension of duty-free treatment under the Generalized System of Preferences (GSP) to not-import sensitive articles normally excluded from GSP duty treatment, and to provide for the entry of specific textile and apparel articles free of duty and free of any quantitative limits to the countries of sub-Saharan Africa.

Respondents: Business or other for-profit, Individuals or households, not-for-profit institutions.

Estimated Number of Respondents: 440.

Estimated Burden Hours Per Respondent: 1 hour, 5 minutes.

Frequency of Response: On occasion.

Estimated Total Reporting Burden: 10,400 hours.

OMB Number: 1515-0226.

Form Number: Customs Form 450.

Type of Review: Reinstatement.

Title: United States-Caribbean Basin Trade Partnership Act.

Description: The collection of information is required to implement the duty preference provisions of The United States-Caribbean Basin Trade Partnership Act of 2000 (CBTPA), to expand trade benefits to countries in the Caribbean Basin.

Respondents: Business or other for-profit, Individuals or households, not-for-profit institutions.

Estimated Number of Respondents: 440.

Estimated Burden Hours Per Respondent: 1 hours, 5 minutes.

Frequency of Response: On occasion.

Estimated Total Reporting Burden: 18,720 hours.

Clearance Officer: Tracey Denning, (202) 927-1429, U.S. Customs Service, Information Services Branch, Ronald Reagan Building, 1300 Pennsylvania Avenue, NW., Room 3.2.C, Washington, DC 20229.

OMB Reviewer: Alexander T. Hunt, (202) 395-7860, Office of Management and Budget, Room 10202, New Executive Office Building, Washington, DC 20503.

Lois K. Holland,
Departmental Reports Management Officer.

[FR Doc. 01-16208 Filed 6-27-01; 8:45 am]

BILLING CODE 4820-02-P